DEPARTMENT OF TRANSPORTATION

Federal Aviation Administration

Notice of Approval of the Record of Decision for Proposed Development at the Cleveland Hopkins International Airport, Cleveland, Ohio

AGENCY: Federal Aviation Administration (FAA), DOT.

ACTION: Notice of approval of the Record of Decision (ROD).

SUMMARY: The FAA is announcing approval of the Record of Decision on the Final Environmental Impact Statement Section 303c and 6(f) evaluation for proposed development at the Cleveland Hopkins International Airport, Cleveland, Ohio.

FOR FURTHER INFORMATION CONTACT: Mr. Ernest Gubry, FAA Great Lakes Region, Detroit Airports District Office, 8820 Beck Road, Belleville, MI 48111, telephone (734) 487-7280; fax: (734) 487-7299.

SUPPLEMENTARY INFORMATION: The ROD approves the proposed development at the Cleveland Hopkins International Airport, Cleveland, Ohio, including: (a) The construction of a replacement 9,000-foot Runway 5L/23R with associated taxiway improvements; (b) the development of a 2,250-foot extension and shift to existing Runway 5R/23L to a length of 11,250 feet; (c) the Federal actions regarding installation of navigational aides, airspace use, and approach and departure procedures associated with the proposed development; (d) airport support facilities improvements to the terminal area; (e) airport support facilities improvements to the landside area; (f) on- and off-airport roadway improvement projects; and (g) implementation of noise abatement measures recommended in the 2000 Part 150 Noise Compatibility Plan Update.

The ROD indicates the project is consistent with existing environmental policies and objectives as set forth in the National Environmental Policy Act (NEPA) of 1969, as amended, and will significantly affect the quality of the environment.

In reaching this decision, the FAA has given careful consideration to: (a) The role of Cleveland in the national air transportation system, and the airport capacity/delay reduction needs; (b) aviation safety; (c) preferences of the airport owner; and (d) anticipated environmental impact.

Discussions of these factors are documented in the Draft Environmental Impact Statement, the Section 303c Evaluation, and the Final Environmental Statement (FEIS) for the project. The notice of availability of the FEIS appeared in the Federal Register on July 14, 2000 (65 FR 43748), and the commend period ran for ninety-four (94) days until January 31, 2000. The FAA's determinations on the project are outlined in the ROD, which was approved on November 8, 2000.

This document is available for review during normal business hours at the following locations:

North Olmsted Library, 27425 Butternut Ridge Road, North Olmsted, OH 44070

Olmsted Falls Library, 7850 Main Street, Olmsted Falls, OH 44138

Berea Library, 7 Berea Commons, Berea, OH 44017

Cleveland Main Library, Cleveland City Hall, Room 100, 601 Lakeside Avenue, Cleveland, OH 44144

Brook Park Library, 6155 Engle Road, Brook Park, OH 44142

The ROD will also be posted at the following web site: www.faa.gov/ARP/APP600/5054A/RODIDX.HTM

Issued in Detroit, Michigan, on November 14, 2000.
James M. Opatrny,
Acting Manager, Detroit Airports District Office, FAA, Great Lakes Region.

[FR Doc. 00-29915 Filed 11-21-00; 8:45 am]

BILLING CODE 4910-13-M